DEPARTMENT OF HEALTH AND HUMAN SERVICES

National Institutes of Health

Office of the Director, National Institutes of Health; Amended Notice of Meeting

Notice is hereby given of a change in the meeting of the NIH Scientific Review Board, September 24, 2009, 8 a.m. to 3 p.m., National Institutes of Health, Building 60, Chapel and Lecture Hall, 9000 Rockville Pike, Bethesda, MD 20892 which was published in the Federal Register on September 14, 2009, 74 FR 46998.

The notice is being amended to cancel the September 24, 2009, Deliberating Organizational Changes and Effectiveness Working Group forum. Please see the Scientific Management Review Board Web site for the schedule of upcoming meetings at: http://smrb.od.nih.qov. For further information contact Dr. Lyric Jorgenson, Office of Science Policy, Office of the Director, National Institutes of Health, Building 1, Room 218, MSC 0166, 9000 Rockville Pike, Bethesda, MD 20892.

Dated: September 16, 2009.
Amy Patterson,
Director, Office of Biotechnology Activities.

[FR Doc. E9-23032 Filed 9-23-09; 8:45 am]

BILLING CODE 4140-01-M